DEPARTMENT OF TRANSPORTATION

Federal Transit Administration

Low or No Emission Vehicle Deployment Program

AGENCY: Federal Transit Administration (FTA), Department of Transportation (DOT).

ACTION: Notice: Extension of application deadline and webinar.

SUMMARY: Pursuant to the Moving Ahead for Progress in the 21st Century Act (MAP-21), the Federal Transit Administration (FTA) published a Notice for Request for Proposals (RFP) for the deployment of low or no emission transit buses on January 9, 2014. Due to heightened public interest in the RFP and the volume of technical questions received, FTA is extending the application submission deadline announced in the RFP to April 10, 2014, and will be conducting an online webinar in which questions and answers can be shared among interested parties.

DATES: This Notice extends the submittal date for proposals to April 10, 2014.

FOR FURTHER INFORMATION CONTACT: Sean Ricketson, FTA Office of Research, Demonstration, and Innovation, 202-366-6678 or sean.ricketson@dot.gov.

SUPPLEMENTARY INFORMATION: On July 6, 2012, President Obama signed into law the “Moving Ahead for Progress in the 21st Century Act” (MAP-21) (Pub. L. 112-141), of which section 20011 amended 49 U.S.C. 5312 by adding paragraph (d)(5), which authorized FTA to make grants to finance eligible projects under the “Low or No Emission Vehicle Deployment Program” (LoNo Program).

FTA published a Notice for Requests for Proposals (RFP) on January 9, 2014 (79 FR 1668), establishing an application deadline of March 10, 2014. Due to heightened public interest in the RFP and the volume of technical questions received, FTA will be conducting an online webinar in which questions and answers can be shared among interested parties and is extending the application submission deadline announced in the initial RFP to April 10, 2014. The date and time of the webinar will be posted in FTA's Calendar of Events (http://www.fta.dot.gov/newsroom/calendar.html). Technical instructions on submitting an application were published in the January RFP and remain the same.

As stated in the RFP, the Consolidated and Further Continuing Appropriations Act, 2013 (Pub. L. 113-6) made available $24.9 million in FY 2013 (after sequestration) to carry out the LoNo Program, of which $21.6 million is available for buses and $3.3 million is available for supporting facilities and related equipment. If additional funding is appropriated for this program in FY 2014, FTA may, at its discretion, apply those funds to scale up selected projects that could not be fully funded with available FY2013 funds, or to fund additional meritorious proposals that could not be selected due to a lack of available FY 2013 funds.

Authority: Pub. L. 112-141, Section 20011; 49 U.S.C. 5312(d)(5) (as amended); 49 CFR 1.91.

Issued in Washington, DC, this 5th day of March 2014.
Therese McMillan,
Deputy Administrator.

[FR Doc. 2014-05196 Filed 3-6-14; 4:15 pm]

BILLING CODE 4910-57-P